DEPARTMENT OF THE INTERIOR

National Park Service

[2253-665]

Notice of Inventory Completion: Washington State Department of Natural Resources, Olympia, WA, and University of Washington, Department of Anthropology, Seattle, WA

AGENCY: National Park Service, Interior.

ACTION: Notice.

SUMMARY: The Washington State Department of Natural Resources and the University of Washington, Department of Anthropology have completed an inventory of human remains and an associated funerary object, in consultation with the appropriate Indian tribes, and have determined that there is a cultural affiliation between the human remains and associated funerary object and present-day Indian tribes. Representatives of any Indian tribe that believes itself to be culturally affiliated with the human remains and associated funerary object may contact the Washington State Department of Natural Resources. Repatriation of the human remains and associated funerary object to the Indian tribe named below may occur if no additional claimants come forward.

DATES: Representatives of any Indian tribe that believes it has a cultural affiliation with the human remains and associated funerary object should contact the Washington State Department of Natural Resources at the address below by September 7, 2011.

ADDRESSES: Maurice Major, Cultural Resource Specialist, Washington State Department of Natural Resources, P.O. Box 47000, 1111 Washington St., SE., Olympia, WA 98504-7000, telephone (360) 902-1298.

SUPPLEMENTARY INFORMATION: Notice is here given in accordance with the Native American Graves Protection and Repatriation Act (NAGPRA), 25 U.S.C. 3003, of the completion of an inventory of human remains and an associated funerary object in the control of the Washington State Department of Natural Resources, Olympia, WA, and in the possession of the University of Washington, Department of Anthropology, Seattle, WA. The human remains and associated funerary object were removed from Skagit County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Washington, Department of Anthropology and Burke Museum professional staff in consultation with representatives of the Lummi Tribe of the Lummi Reservation, Washington; Samish Indian Tribe, Washington; and the Swinomish Indians of the Swinomish Reservation, Washington (hereinafter referred to as “The Tribes”).

History and Description of the Remains

In 1976, human remains representing a minimum of one individual were removed from Huckleberry Island, Skagit County, WA. This individual was determined to be consistent with Native American morphology, based on cranial deformation and wormian bone evidence. No known individual was identified. The one associated funerary is a bird bone.

This individual and associated funerary object were identified while preparing the transfer of other human remains that were described in published Notices of Inventory Completion (75 FR 14463, March 25, 2010; 76 FR 9051-9052, February 16, 2011). Those individuals have been repatriated.

Huckleberry Island is a small island located approximately ¼ mile southeast of Guemes Island, in Skagit County, WA. This area falls within the Central Coast Salish cultural group (Suttles 1990). Historical documentation indicates that the aboriginal Samish people traditionally occupied Guemes Island (Amoss 1978, Roberts 1975, Ruby and Brown 1986, Smith 1941, Suttles 1951, Swanton 1952) and Huckleberry Island (Barg 2008, unpublished report) both before and after European contact. The Treaty of Point Elliot, in 1855, stated that the Samish were to be relocated to the Lummi Reservation. Following the Treaty of Point Elliot, many Samish individuals relocated to either the Lummi Reservation or the Swinomish Reservation (Ruby and Brown 1986:179). Many Samish, however, also chose to remain in their old village sites. In 1996, the Samish Indian Tribe was re-recognized by the Federal Government.

Determinations Made by the Washington State Department of Natural Resources

Officials of the Washington State Department of Natural Resources have determined that:

• Based on anthropological and biological evidence, the human remains and associated funerary object have been determined to be Native American.

• Pursuant to 25 U.S.C. 3001(9), the human remains described above represent the physical remains of one individual of Native American ancestry.

• Pursuant to 25 U.S.C. 3001(3)(A), the one object described above is reasonably believed to have been placed with or near individual human remains at the time of death or later as part of the death rite or ceremony.

• Pursuant to 25 U.S.C. 3001(2), there is a relationship of shared group identity that can be reasonably traced between the Native American human remains and associated funerary object and The Tribes.

Additional Requestors and Disposition

Representatives of any other Indian tribe that believes itself to be culturally affiliated with the human remains and associated funerary object should contact Maurice Major, Cultural Resource Specialist, Washington State Department of Natural Resources, P.O. Box 47000, 1111 Washington St., SE., Olympia, WA 98504-7000, telephone (360) 902-1298, before September 7, 2011. Repatriation of the human remains and associated funerary object to the Samish Indian Tribe, Washington, may proceed after that date if no additional claimants come forward.

The University of Washington's Burke Museum is responsible for notifying The Tribes that this notice has been published.

Dated: August 2, 2011.
Sherry Hutt,
Manager, National NAGPRA Program.

[FR Doc. 2011-19993 Filed 8-5-11; 8:45 am]

BILLING CODE 4312-50-P